DEPARTMENT OF COMMERCE

National Oceanic and Atmospheric Administration

RIN 0648-XC662

Pacific Fishery Management Council; Public Meeting

AGENCY: National Marine Fisheries Service (NMFS), National Oceanic and Atmospheric Administration (NOAA), Commerce.

ACTION: Notice of a public meeting.

SUMMARY: The Pacific Fishery Management Council's (Pacific Council) Enforcement Consultants (EC) will hold an online webinar, which is open to the public.

DATES: The webinar will be held Thursday, May 23, 2013, from 10 a.m. to 12 noon Pacific Time.

ADDRESSES: To attend the EC webinar, please reserve your seat by visiting https://www2.gotomeeting.com/register/689010826. If requested, enter your name, email address, and the webinar ID, which is 689-010-826. Once registered, participants will receive a confirmation email message that contains detailed information about viewing the event. To only join the audio teleconference of the webinar from the U.S. or Canada, call the toll number +1 (914) 339-0021 (note: this is not a toll-free number) and use the access code 328-966-651 when prompted.

Council address: Pacific Fishery Management Council, 7700 NE Ambassador Place, Suite 101, Portland, OR 97220-1384.

FOR FURTHER INFORMATION CONTACT: Jim Seger, Staff Officer; telephone: (503) 820-2280.

SUPPLEMENTARY INFORMATION: The primary purpose of the webinar is to develop recommendations on the vessel monitoring system (VMS) agenda item scheduled for the June 2013 Pacific Council meeting. The main VMS issue to be discussed pertains to fishery declarations required by vessels with VMS units acquired for use in the commercial groundfish fishery. Other items on the June 2013 Pacific Council agenda may also be discussed during the meeting. Action will be restricted to those issues specifically listed in this notice and any issues arising after publication of this notice that require emergency action under Section 305(c) of the Magnuson-Stevens Fishery Conservation and Management Act, provided the public has been notified of the EC's intent to take final action to address the emergency.

Special Accommodations

This meeting is physically accessible to people with disabilities. Requests for sign language interpretation or other auxiliary aids should be directed to Mr. Kris Kleinschmidt, at (503) 820-2280, at least 5 days prior to the meeting date.

Dated: May 6, 2013.
Tracey L. Thompson,
Acting Deputy Director, Office of Sustainable Fisheries, National Marine Fisheries Service.

[FR Doc. 2013-11039 Filed 5-8-13; 8:45 am]

BILLING CODE 3510-22-P